DEPARTMENT OF LABOR

Pension and Welfare Benefits Administration

Agency Information Collection Activities; Announcement of OMB Approval

AGENCY: Pension and Welfare Benefits Administration, Department of Labor.

ACTION: Notice.

SUMMARY: The Pension and Welfare Benefits Administration (PWBA) is announcing that a collection of information included in its Interim Final Rule for Reporting by Multiple Employer Welfare Arrangements and Certain Other Entities That Offer or Provide Coverage for Medical Care to the Employees of Two or More Employers (Interim Final Reporting Rule) has been approved by the Office of Management and Budget (OMB) under the Paperwork Reduction Act of 1995. This notice announces the OMB approval number and expiration date.

FOR FURTHER INFORMATION CONTACT: Copies of the current Form M-1 and instructions are available on the Internet at: http://www.dol.gov/dol/pwba. In addition, after printing, copies will be available by calling the PWBA toll-free publication hotline at 1-800-998-7542. Questions on completing the form are being directed to the PWBA help desk at (202) 219-8770 (not a toll-free number).

Address requests for copies of the information collection request (ICR) to Gerald B. Lindrew, U.S. Department of Labor, Pension and Welfare Benefits Administration, 200 Constitution Avenue, NW. Room N-5647, Washington, DC 20210. Telephone: (202) 219-4782 (not a toll-free number).

SUPPLEMENTARY INFORMATION: On February 11, 2000, PWBA published the Interim Final Reporting Rule and the Annual Report for Multiple Employer Welfare Arrangements and Certain Entities Claiming Exception (Form M-1) (65 FR 7152), along with an Interim Final Rule for the Assessment of Civil Penalties under Section 502(c)(5) of ERISA and an Interim Rule Governing Procedures of Administrative Hearing Regarding the Assessment of Civil Penalties under Section 502(c)(5) of ERISA (Interim Final Penalty Rules, 65 FR 7181). At the time of publication, the Department submitted the ICR included in the Interim Final Reporting Rule to OMB using emergency procedures, and received approval through August 31, 2000. On August 31, 2000, the Department submitted the ICR to OMB for an extension of the initial approval.

On November 22, 2000, OMB approved the ICR under the Paperwork Reduction Act of 1995 (44 U.S.C. 3501 et seq.) and 5 CFR 1320. The approval will expire on November 30, 2003. The control number assigned in this ICR by OMB is 1210-0116.

Under 5 CFR 1320.5(b), an Agency may not conduct or sponsor, and a person is not required to respond to a collection of information unless the collection displays a valid control number.

Dated: November 29, 2000.
Gerald B. Lindrew,
Deputy Director, Office of Policy and Research, Pension and Welfare Benefits Administration.

[FR Doc. 00-31704 Filed 12-12-00; 8:45 am]

BILLING CODE 4510-29-M